DEPARTMENT OF ENERGY

Federal Energy Regulatory Commission

[Docket No. RP03-508-000]

ANR Storage Company; Notice of Proposed Changes in FERC Gas Tariff

June 5, 2003.

Take notice that on May 30, 2003, ANR Storage Company (ANR Storage) tendered for filing as part of its FERC Gas Tariff, Original Volume No. 1 and Original Volume No. 2, the following tariff sheets proposed to become effective April 1, 2003:

Original Volume No. 1

First Revised Sheet No. 1A

Original Volume No. 2

Fourth Revised Sheet No. 1

Second Revised Sheet No. 177

Second Revised Sheet No. 203

ANR Storage states that the above-referenced tariff sheets are being filed to cancel ANR Storage's Rate Schedules X-9 and X-10 as approved by Commission order issued on January 30, 2003.

Any person desiring to be heard or to protest said filing should file a motion to intervene or a protest with the Federal Energy Regulatory Commission, 888 First Street, NE., Washington, DC 20426, in accordance with §§ 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 11, 2003.

Magalie R. Salas,
Secretary.

[FR Doc. 03-14768 Filed 6-10-03; 8:45 am]

BILLING CODE 6717-01-P